DEPARTMENT OF ENERGY

Federal Energy Regulatory Commission

[Project No. 12790-015]

Andrew Peklo III; Notice of Availability of Environmental Assessment

In accordance with the National Environmental Policy Act of 1969 and the Federal Energy Regulatory Commission's (Commission or FERC) regulations, 18 CFR part 380, Commission staff reviewed Andrew Peklo III's (licensee) application for an amendment of the project license for the Pomperaug Hydroelectric Project No. 12790 and have prepared an Environmental Assessment (EA) for the proposed amendment. The licensee proposes to install two 45 kilowatt (kW) turbines (for a total generating capacity of 90 kW) instead of the single 76 kW turbine authorized in the project license. The Pomperaug Project is unconstructed and would consist of a powerhouse located adjacent to the existing Pomperaug Dam on the Pomperaug River in the town of Woodbury, Litchfield County, Connecticut, and is not located on Federal lands.

The final EA contains Commission staff's analysis of the potential environmental effects of the proposed two-turbine installation and supporting activities, alternatives to the proposed action, and concludes that the proposed installation, with appropriate environmental protective measures, would not constitute a major Federal action that would significantly affect the quality of the human environment.

The final EA may be viewed on the Commission's website at http://www.ferc.gov using the “elibrary” link. Enter the docket number (P-12790-015) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

For further information, contact Zeena Aljibury at 202-502-6065 or zeena.aljibury@ferc.gov.

Dated: December 14, 2023.
Debbie-Anne A. Reese,
Deputy Secretary.

[FR Doc. 2023-27980 Filed 12-19-23; 8:45 am]

BILLING CODE 6717-01-P